DEPARTMENT OF EDUCATION

[Docket No. ED-2012-ICCD-0044]

Agency Information Collection Activities; Submission to the Office of Management and Budget for Review and Approval; Comment Request: Federal Family Education Loan (FFEL) Program Income Based Repayment (IBR) Plan Request and Alternative Documentation of Income

AGENCY: Department of Education (ED), Federal Student Aid (FSA).

ACTION: Notice.

SUMMARY: In accordance with the Paperwork Reduction of 1995 (44 U.S.C. chapter 3501 et seq.), ED is proposing a revision of an existing information collection.

DATES: Interested persons are invited to submit comments on or before November 26, 2012.

ADDRESSES: Comments submitted in response to this notice should be submitted electronically through the Federal eRulemaking Portal at http://www.regulations.gov by selecting Docket ID number ED-2012-ICCD-0044 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

FOR FURTHER INFORMATION CONTACT: Ian Foss, Federal Student Aid, (202) 377-3681.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Federal Family Education Loan (FFEL) Program Income Based Repayment (IBR) Plan Request and Alternative Documentation of Income.

OMB Control Number: 1845-0102.

Type of Review: Revision of an existing collection of information.

Respondents/Affected Public: Individuals or households.

Total Estimated Number of Annual Responses: 3,159,132.

Total Estimated Number of Annual Burden Hours: 1,042,514.

Abstract: This form serves as the means by which borrowers in the William D. Ford Federal Direct Loan (Direct Loan) and Federal Family Education Loan (FFEL) Programs may request an Income-Based or Income-Contingent Repayment (IBR/ICR) Plans if they meet certain statutory and regulatory criteria. The U.S. Department of Education uses the information collected on these forms to determine whether a borrower meets the eligibility requirements for the specific IBR/ICR Plan that the borrower has requested. The burden hours associated with this collection is increasing for one reason; namely, that the collection is being combined with all Income-Based or Income-Contingent materials contained in the soon-to-be revised 1845-0014 (Direct Loan Repayment Plan Selection Form) and soon-to-be discontinued 1845-0016 (Direct Loan IBR/ICR Alternative Documentation of Income Form), so that the forms associated with this collection may be used in both the FFEL and Direct Loan Program. However, because the form has been greatly streamlined, there is a significant burden reduction associated with this clearance that is masked by the increased respondent population.

Dated: October 22, 2012.
Darrin A. King,
Director, Information Collection Clearance Division, Privacy, Information and Records Management Services, Office of Management.

[FR Doc. 2012-26336 Filed 10-25-12; 8:45 am]

BILLING CODE 4000-01-P